DEPARTMENT OF TRANSPORTATION

Federal Aviation Administration

14 CFR Part 39

[Docket No. 2001-CE-38-AD; Amendment 39-12638; AD 2002-02-10]

RIN 2120-AA64

Airworthiness Directives; Pilatus Britten-Norman Limited BN-2, BN-2A, BN-2B, and BN-2T Series Airplanes

AGENCY: Federal Aviation Administration, DOT.

ACTION: Final rule.

SUMMARY: This amendment adopts a new airworthiness directive (AD) that applies to certain Pilatus Britten-Norman Limited (Pilatus Britten-Norman) BN-2, BN-2A, BN-2B, and BN-2T series airplanes. This AD requires you to repetitively inspect the inboard brackets of the elevator outboard hinge for loose rivets, structural damage, or cracks and replace any suspect bracket. This AD also requires you to replace the hinge bracket at a certain time period if no discrepancies are found. This replacement includes modifying this area and installing modified brackets. This replacement allows you to increase the time period between inspections (reduce the number of repetitive inspections). This AD is the result of mandatory continuing airworthiness information (MCAI) issued by the airworthiness authority for the United Kingdom. The actions specified by this AD are intended to detect and correct inboard brackets of the elevator outboard hinge with loose rivets, structural damage, or cracks. Such conditions could cause the outboard elevator to become loose with a consequent reduction in elevator and airplane control.

DATES: This AD becomes effective on March 25, 2002.

The Director of the Federal Register approved the incorporation by reference of certain publications listed in the regulations as of March 25, 2002.

ADDRESSES: You may get the service information referenced in this AD from Pilatus Britten-Norman Limited, Bembridge, Isle of Wight, United Kingdom PO35 5PR; telephone: +44 (0) 1983 872511; facsimile: +44 (0) 1983 873246. You may view this information at the Federal Aviation Administration (FAA), Central Region, Office of the Regional Counsel, Attention: Rules Docket No. 2001-CE-38-AD, 901 Locust, Room 506, Kansas City, Missouri 64106; or at the Office of the Federal Register, 800 North Capitol Street, NW, suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What Events Have Caused This AD?

The Civil Aviation Authority (CAA), which is the airworthiness authority for the United Kingdom, recently notified FAA that an unsafe condition may exist on BN-2, BN-2A, BN-2B, and BN-2T series airplanes. The United Kingdom CAA reports several instances where the inboard brackets of the elevator outboard hinge had loose rivets, structural damage, or cracks.

These inboard brackets of the elevator outboard hinge incorporate part number NB-31-0077.

What Is the Potential Impact if FAA Took No Action?

Loose rivets, structural damage, or cracks in the inboard brackets of the elevator outboard hinge, if not detected and corrected, could cause the outboard elevator to become loose with a consequent reduction in elevator and airplane control.

Has FAA Taken Any Action to This Point?

We issued a proposal to amend part 39 of the Federal Aviation Regulations (14 CFR part 39) to include an AD that would apply to certain Pilatus Britten-Norman Limited (Pilatus Britten-Norman) BN-2, BN-2A, BN-2B, and BN-2T series airplanes. This proposal was published in the Federal Register as a notice of proposed rulemaking (NPRM) on November 28, 2001 (66 FR 59378). The NPRM proposed to require you to repetitively inspect the inboard brackets of the elevator outboard hinge for loose rivets, structural damage, or cracks; and replace the hinge bracket prior to further flight or at a certain time, depending on whether loose rivets, structural damage, or cracks are found during an inspection. This replacement includes modifying this area and installing modified brackets, part number NB-31-0901.

Was the Public Invited to Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

Provide the intent that was proposed in the NPRM for correcting the unsafe condition; and

Do not add any additional burden upon the public than was already proposed in the NPRM.

Are There Differences Between This AD, the Service Information, and the CAA AD?

This AD requires you to replace/modify the hinge bracket at a certain time period if no discrepancies are found to increase the time period between inspections (reduce the number of repetitive inspections). BN Bulletin Number BN2/SB 259 and CAA AD Number 002-07-2000 do not specify this provision; they both specify this replacement/modification only if a suspect bracket is found during an inspection. This provision of incorporating the replacement/modification regardless of whether a suspect bracket is found is consistent with FAA's aging commuter aircraft policy, which briefly states that, when a modification exists that could eliminate or reduce the number of required critical inspections, the modification should be incorporated. This policy is based on our determination that reliance on critical repetitive inspections on airplanes utilized in commuter service carries an unnecessary safety risk when a design change exists that could eliminate or, in certain instances, reduce the number of those critical inspections.

The alternative to incorporating this replacement/modification would be to repetitively inspect this area every 100 hours time-in-service (TIS) for the life of the airplane instead of every 1,000 hours TIS.

Cost Impact

How Many Airplanes Does This AD Impact?

We estimate that this AD affects 118 airplanes in the U.S. registry.

What Is the Cost Impact of This AD on Owners/Operators of the Affected Airplanes?

We estimate the following costs to accomplish each inspection:

Labor cost | Parts cost | Total cost per airplane | Total cost on U.S. operators
1 workhour at $60 per hour = $60 | No parts necessary to accomplish the inspection | $60 per airplane | $7,080

We estimate the following costs to accomplish the replacement/modification:

Labor cost | Parts cost | Total cost per airplane | Total cost on U.S. operators
10 workhours at $60 per hour = $600 | $240 per airplane | $840 per airplane | $99,120

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-02-10 Pilatus Britten Norman Ltd.: Amendment 39-12638; Docket No. 2001-CE-38-AD.

(a) What airplanes are affected by this AD? This AD affects Models BN-2, BN-2A, BN-2A-2, BN-2A-3, BN-2A-6, BN-2A-8, BN-2A-9, BN-2A-20, BN-2A-21, BN-2A-26, BN-2A-27, BN-2B-20, BN-2B-21, BN-2B-26, BN-2B-27, BN-2T, and BN-2T-4R airplanes, all constructor numbers, that are certificated in any category and do not have one of the following incorporated:

(1) BN Modification NB-M-1695. This modification is incorporated at production and includes different designs in the area of the inboard brackets of the elevator outboard hinge. This modification is not available as a field installation. The maintenance manual for these production airplanes specifies 1,000-hour time-in-service (TIS) interval repetitive inspections. Owners/operators of airplanes with this production modification should be accomplishing these inspections or an FAA-approved equivalent; or

(2) Reinforcing plates installed at manufacture. These plates were installed on Constructor Number C2298 of the Model BN-2B airplanes.

(b) Who must comply with this AD? Anyone who wishes to operate any of the airplanes identified in paragraph (a) of this AD must comply with this AD.

(c) What problem does this AD address? The actions specified by this AD are intended to detect and correct inboard brackets of the elevator outboard hinge with loose rivets, structural damage, or cracks. Such conditions could cause the outboard elevator to become loose with a consequent reduction in elevator and airplane control.

(d) What actions must I accomplish to address this problem? To address this problem, you must accomplish the following:

Actions | Compliance | Procedures
(1) For airplanes that do not have modified inboard brackets of the elevator outboard hinge installed (part number NB-31-0901 installed in accordance with Part 2 of the service bulletin), accomplish the following: (i) Repetitively inspect the inboard brackets of the elevator outboard hinge for loose rivets, structural damage, or cracks; (ii) Replace the inboard brackets of the elevator outboard hinge, which includes modifying this area and installing modified brackets, part number NB-31-0901; and (iii) Comply with paragraphs (d)(2)(i) and (d)(2)(ii) of this AD. | Initially inspect within the next 100 hours time-in-service (TIS) after March 25, 2002 (the effective date of this AD), and thereafter at intervals not to exceed 100 hours TIS until the replacement/modification required by paragraph (d)(1)(ii) of this AD is accomplished. Do the replacement initially at whichever of the following occurs within 1,000 hours TIS after March 25, 2002 (the effective date of this AD) or prior to further flight when any loose of rivet, structural damage, or crack is found. Replace thereafter prior to further bulletin), flight after any loose rivet, structural accomplish the damage, or crack is found. | In accordance with BN Bulletin Number BN2/SB.259, Issue 1, dated July 1, 2000.
(2) For airplanes that have modified inboard brackets of the elevator outboard hinge installed (part number NB-31-0901 in accordance with Part 2 of the service bulletin), accomplish the following: (i) Repetitively inspect the inboard brackets of the elevator outboard hinge for loose rivets, structural damage, or cracks; and (ii) Replace the inboard brackets of the elevator outboard hinge, which includes modifying this area and installing modified brackets, part number NB-31-0901. | Inspect within 1,000 hours TIS after incorporating the replacement/modification or within the 100 hours TIS after March 25, 2002 (the effective date of this AD), whichever occurs later, and thereafter at intervals not to exceed 1,000 hours TIS. Accomplish the replacement/modification prior to further flight when any loose rivet, structural damage, or crack is found during any inspection required by this AD. | In accordance with BN Bulletin Number BN2/SB.259, Issue 1, dated July 1, 2000.
(3) This AD does not apply to airplanes with one of the following incorporated: (i) BN Modification NB-M-1695. This modification is incorporated at production and includes different designs in the area of the inboard brackets of the elevator outboard hinge. This modification is not available as a field installation. The maintenance manual for these production airplanes specifies 1,000-hour TIS interval repetitive inspections. Owners/operators of airplanes with this production modification should be accomplishing these inspections or an FAA-approved equivalent; or (ii) Reinforcing plates installed at manufacture. These plates were installed on Constructor Number C2298 of the Model BN-2B airplanes. | Not Applicable. | Not Applicable.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under § § 21.197 and 21.199 of the Federal Aviation Regulations (14 CFR 21.197 and 21.199) to operate your airplane to a location where you can accomplish the requirements of this AD.

(h) Are any service bulletins incorporated into this AD by reference? Actions required by this AD must be done in accordance with BN Bulletin Number BN2/SB.259, Issue 1, dated July 1, 2000. The Director of the Federal Register approved this incorporation by reference under 5 U.S.C. 552(a) and 1 CFR part 51. You may get copies from Pilatus Britten-Norman Limited, Bembridge, Isle of Wight, United Kingdom PO35 5PR; telephone: +44 (0) 1983 872511; facsimile: +44 (0) 1983 873246. You may view copies at the FAA, Central Region, Office of the Regional Counsel, 901 Locust, Room 506, Kansas City, Missouri, or at the Office of the Federal Register, 800 North Capitol Street, NW, suite 700, Washington, DC.

Note 2: The subject of this AD is addressed in CAA AD Number 002-07-2000, not dated.

(i) When does this amendment become effective? This amendment becomes effective on March 25, 2002.

Issued in Kansas City, Missouri, on February 1, 2002.
Michael Gallagher,
Small Airplane Directorate, Aircraft Certification Service.

[FR Doc. 02-2946 Filed 2-11-02; 8:45 am]

BILLING CODE 4910-13-P